DEPARTMENT OF THE INTERIOR

National Park Service

[NPS-WASO-NRNHL-25240; PPWOCRADI0, PCU00RP14.R50000]

National Register of Historic Places; Notification of Pending Nominations and Related Actions

AGENCY: National Park Service, Interior.

ACTION: Notice.

SUMMARY: The National Park Service is soliciting comments on the significance of properties nominated before March 10, 2018, for listing or related actions in the National Register of Historic Places.

DATES: Comments should be submitted by April 17, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 10, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Torrey, Joseph and Carrie, House, 711 Daisy Ave., Long Beach, SG100002319

San Bernardino County

Integratron, 2477 Belfield Blvd., Landers, SG100002317

CONNECTICUT

Fairfield County

Bridge Street Historic District, Bridge St., Imperial Ave. & Compo Rd. S, Westport, SG100002318

New Haven County

Morris Cove Historic District, Between Dean & Myron Sts., Morris Causeway & Townsend Ave., New Haven, SG100002320

New London County

Stonington Cemetery, SE corner of Main St. & US 1, Stonington, SG100002321

Sound View Historic District, 4-88 Hartford, 4-70 Portland, & 5-86 Swan Aves., 275-287 Shore Rd., Old Lyme, SG100002322

ILLINOIS

Madison County

Glen Carbon Village Hall and Firehouse, 180 Summit Ave., Glen Carbon, SG100002326

McLean County

Bloomington High School, 510 E Washington St., Bloomington, SG100002327

Rock Island County

Best Building, 1701-03 2nd Ave., Rock Island, SG100002328

Wayne County

House at 502 SE 4th St., 502 SE 4th St., Fairfield, SG100002329

IOWA

Lee County

Old Fort Madison and Battlefield (Boundary Increase), Address Restricted, Fort Madison vicinity, BC100002323

Polk County

Hippee Building, 206 6th Ave., Des Moines, SG100002325

MARYLAND

Baltimore Independent city

Commercial Credit Company Building, 300-314 St. Paul Pl., Baltimore, SG100002331

MICHIGAN

Ottawa County

De Zwaan Windmill, Windmill Island Gardens, 1 Lincoln Ave., Holland, SG100002333

MISSOURI

St. Louis County

Tilles, Rosalie, Park, 9551 Litzsinger Rd., Ladue, SG100002336

St. Louis Independent city

Crunden Branch Library, 2008 Cass Ave., St. Louis, SG100002334

St. Luke's Hospital Historic District, 5535 Delmar Blvd., St. Louis, SG100002335

NEVADA

Clark County

Sandstone Ranch (Boundary Increase), Address Restricted, Las Vegas vicinity, BC100002337

PENNSYLVANIA

Delaware County

Sellers Hall, NW corner of Hampden Rd. & Walnut St., Upper Darby Township, SG100002339

Philadelphia County

Franklin Carpet Mill, 2141-2145 E. Huntingdon St., Philadelphia, SG100002340

West Philadelphia Streetcar Suburb Historic District (Boundary Increase), 14-36 S 40th St., 4001 Chestnut St., Philadelphia, BC100002341

Gotham Silk Hosiery Company, (Textile Industry in the Kensington Neighborhood of Philadelphia, Pennsylvania MPS), 2000-2034 N 2nd St., Philadelphia, MP100002342

Waverly Garage, 414-422 S 16th St., Philadelphia, SG100002343

TEXAS

Coleman County

Camp Colorado Replica, (Monuments and Buildings of the Texas Centennial MPS), Coleman City Park, 1700 N Neches, Coleman, MP100002345

Comal County

Riley's Tavern, 8894 FM 1102, New Braunfels vicinity, SG100002346

Denton County

Pioneer Woman Monument, (Monuments and Buildings of the Texas Centennial MPS), Pioneer Cir., Texas Woman's University, Denton, MP100002347

Erath County

Erath Memorial Arch, (Monuments and Buildings of the Texas Centennial MPS), N Erath Ave. & W Washington St., Stephenville, MP100002348

Stephenville Downtown Historic District, Roughly bounded by McNeil, & Tarleton Sts., Barton & Devine Aves., Stephenville, SG100002349

Jackson County

Jackson County Monument, (Monuments and Buildings of the Texas Centennial MPS), 115 W Main St., Edna, MP100002350

Matagorda County

Matagorda County Monument, (Monuments and Buildings of the Texas Centennial MPS), 1700 7th St., Bay City, MP100002351

San Patricio County, San Patricio de Hibernia Monument, (Monuments and Buildings of the Texas Centennial MPS), Main St., Constitution Sq., San Patricio, MP100002352

Sons of San Patricio, Cty. Rd. 1441 (21), Old San Patricio Cemetery, (Monuments and Buildings of the Texas Centennial MPS), San Patricio, MP100002353

VIRGINIA

Amherst County

EL Bethel Methodist Church, 925 Buffalo Springs Tpk., Amherst vicinity, SG100002354

Hanover County

Little River UDC Jefferson Davis Highway Marker, (UDC Commemorative Highway Markers along the Jefferson Davis Highway in Virginia MPS), 15400 Washington Hwy., Doswell vicinity, MP100002355

Richmond Independent city

Lee Medical Building, 1805 Monument Ave., Richmond, SG100002356

Additional documentation has been received for the following resource:

CONNECTICUT

Fairfield County

Hoyt-Barnum House, 1508 High Ridge Rd., Stamford, AD69000199

Nominations submitted by Federal Preservation Officers:

The State Historic Preservation Officer reviewed the following nominations and responded to the Federal Preservation Officer within 45 days of receipt of the nominations) and supports listing the property in the National Register of Historic Places.

MASSACHUSETTS

Essex County

Saugus Iron Works National Historic Site, 244 Central St., Saugus, AD66000047

Authority: Section 60.13 of 36 CFR part 60.

Dated: March 15, 2018.
J. Paul Loether,
Chief, National Register of Historic Places/National Historic Landmarks Program and Keeper, National Register of Historic Places.

[FR Doc. 2018-06608 Filed 3-30-18; 8:45 am]

BILLING CODE 4310-52-P